DEPARTMENT OF DEFENSE

Office of the Secretary

[Docket ID: DOD-2012-OS-0003]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 23, 2012.

ADDRESSES: You may submit comments, identified by docket number and title, by any of the following methods:

Federal eRulemaking portal: http://www.regulations.gov. Follow the instructions for submitting comments.

Mail: Federal Docket Management Systems Office, 4800 Mark Center Drive, Suite 02G09, East Tower, 2nd floor, Alexandria, VA 22350-3100.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity (DoDEA), 4040 N. Fairfax Drive, 9th Floor, Arlington, VA 22203, ATTN: Dr. Sandra D. Embler or call (703) 588-3175.

Title, Associated Form and OMB Control Number: “Department of Defense Education Activity (DoDEA) Non-Sponsored Research Program,” DoDEA Form 2071.3-F1, OMB CONTROL NUMBER 0704-0457.

Needs and Uses: The Department of Defense Education Activity (DoDEA) is a DoD field activity operating under the direction, authority, and control of the Deputy Under Secretary of Defense, Military Community and Family Policy. The DoDEA operates 196 schools in 14 districts located in 12 foreign countries, seven states, Guam, and Puerto Rico.

The DoDEA receives requests from researchers to conduct non-DoDEA sponsored research studies in DoDEA schools, districts, and/or areas. To review the proposed research requests, DoDEA is seeking renewal for the DoDEA Administrative Instruction 2071.3 (DoDEA AI 2071.3) that includes DoDEA Form 2071.3-F1, “Research Study Request.” The DoDEA “Research Study Request” collects information about the researcher, the research project, audience, timeline, and the statistical analyses that will be conducted during the proposed research study.

This information is needed to ensure that the proposed non-DoDEA sponsored research does not unduly interfere with the classroom instructional process or the regular operations of the school, district, and/or areas.

Affected Public: Federal government; individuals or Households.

Annual Burden Hours: 30 hours.

Number of Respondents: 30.

Responses per Respondent: 1.

Average Burden per Response: 1 hour.

Frequency: Once.

SUPPLEMENTARY INFORMATION:

Summary of Information Collection

The DoDEA Administrative Instruction 2071.3 (DoDEA AI 2071.3) follows the DoD Directive 3216.2, “Protection of Human Subjects and Adherence to Ethical Standards in DoD-Supported Research,” March 25, 2002, which states that “The rights and welfare of human subjects in research supported or conducted by the DoD Components shall be protected. This protection encompasses basic respect for persons, beneficence, and justice in the selection of subjects.” To ensure that all non-DoDEA sponsored research conducted in the DoDEA school system protects the dignity, well-being, and confidentiality of any individual(s) involved in the research, including the rights guaranteed legally and constitutionally and by DoDEA policies, DoDEA created the DoDEA Form 2071.3-F1, “Research Study Request” that collects data that are used to review the proposed research study.

The “Research Study Request” is required from individuals or organizations who wish to propose data collection activities and/or research studies not sponsored by DoDEA, that involve DoDEA school personnel, school facilities, sponsors, students, and/or data. This documentation is required to show that the research does not unduly interfere with the classroom instructional process or the regular operations of the school, district, and/or areas. Information collected on the DoDEA Form 2071.3-F1 “Research Study Request” includes the researcher's name, address, telephone number, email address, FAX number (if available), school affiliation (if applicable), the study title, an abstract of the proposed study, an explanation on how the research study (1) is aligned with the DoDEA Community Strategic Plan, and (2) the impact of the study in the researcher's field of study, the major hypothesis(es) or question(s) to be tested, the population and/or sample to be studied, a description and copy of instruments, other data collection activities, the timetable for the study, and the statistical or other analysis techniques to be used during the study.

Dated: January 17, 2012.
Aaron Siegel,
Alternate OSD Federal Register Liaison Officer, Department of Defense.

[FR Doc. 2012-1141 Filed 1-20-12; 8:45 am]

BILLING CODE 5001-06-P